DEPARTMENT OF HEALTH AND HUMAN SERVICES

Health Resources and Services Administration Advisory Committee

Notice of Meeting

In accordance with section 10(a)(2) of the Federal Advisory Committee Act (Public Law 92-463), announcement is made of the following National Advisory body scheduled to meet during the month of February 2001.

Name: Advisory Committee on Infant Mortality (ACIM).

Date and Time: February 26, 2001; 9:00 a.m.-5:00 p.m.; February 27, 2001; 8:30 a.m.-3:00 p.m.

Place: Georgetown Latham Hotel, 3000 M. Street, NW., Washington, DC 20007 (202) 726-5000.

The meeting is open to the public.

Purpose: The Committee provides advice and recommendations to the Secretary of Health and Human Services on the following: Department programs which are directed at reducing infant mortality and improving the health status of pregnant women and infants; factors affecting the continuum of care with respect to maternal and child health care, including outcomes following childbirth; factors determining the length of hospital stay following childbirth; strategies to coordinate the variety of Federal, State, and local and private programs and efforts that are designed to deal with the health and social problems impacting on infant mortality; and the implementation of the Healthy Start initiative and infant mortality objectives from Healthy People 2010.

Agenda: Topics that will be discussed include: Early Postpartum Discharge; Low-Birth Weight; Disparities in Infant Mortality; and the Healthy Start Program.

Anyone requiring information regarding the Committee should contact Peter C. van Dyck, M.D., M.P.H., Executive Secretary, ACIM, Health Resources and Services Administration (HRSA), Room 18-05, Parklawn Building, 5600 Fishers Lane, Rockville, MD 20857, telephone: (301) 443-2170.

Individuals who are interested in attending any portion of the meeting or who have questions regarding the meeting should contact Ms. Kerry P. Nesseler, HRSA, Maternal and Child Health Bureau, telephone: (301) 443-2170.

Agenda items are subject to change as priorities are further determined.

Dated: January 18, 1001.
Jane M. Harrison,
Director, Division of Policy Review and Coordination.

[FR Doc. 01-2130 Filed 1-23-01; 8:45 am]

BILLING CODE 4160-15-P-M